DEPARTMENT OF STATE

[Public Notice 4861]

Unclassified; National Interest Determination and Waiver of Section 620(q) of the Foreign Assistance Act of 1961, as Amended, Relating to Assistance to Ethiopia

Pursuant to the authority vested in me, inter alia, by section 620(q) of the Foreign Assistance Act of 1961, as amended, (FAA) (22 U.S.C. 2370) and Executive Order 12163, I hereby determine that assistance to Ethiopia is in the national interest of the United States and waive, with respect to that country, the application of section 620(q) of the FAA.

This determination shall be reported to Congress and published in the Federal Register.

Dated: September 29, 2004.
Colin L. Powell,
Secretary of State, Department of State.

[FR Doc. 04-23172 Filed 10-14-04; 8:45 am]

BILLING CODE 4710-26-P